DEPARTMENT OF THE INTERIOR

Bureau of Land Management

[AK-933-1430-ET; F-07357]

Public Land Order No. 7510; Partial Revocation of Public Land Order No. 2550; Alaska

AGENCY: Bureau of Land Management, Interior.

ACTION: Public land order.

SUMMARY: This order revokes a public land order insofar as it affects approximately 72.79 acres of public lands withdrawn for airport purposes for the Federal Aviation Administration at Fairbanks, Alaska. The lands have been conveyed out of Federal ownership to the State of Alaska pursuant to the Airport and Airway Improvement Act of 1982. This action is for record clearing purposes only.

EFFECTIVE DATE: February 11, 2002.

FOR FURTHER INFORMATION CONTACT: Robbie J. Havens, Bureau of Land Management, Alaska State Office, 222 W. 7th Avenue, No. 13, Anchorage, Alaska 99513-7599, 907-271-5049.

SUPPLEMENTARY INFORMATION: By virtue of the authority vested in the Secretary of the Interior by Section 204 of the Federal Land Policy and Management Act of 1976, 43 U.S.C. 1714 (1994), it is ordered as follows:

1. Public Land Order No. 2550, which withdrew public lands for airport purposes, is hereby revoked insofar as it affects the following described lands:

Fairbanks Meridian

Tract XIV, Parcel A

T. 1 S., R. 2 W.,

Sec. 13, W½SW¼SW¼.

This parcel contains 20 acres.

Tract XIV, Parcel B

T. 1 S., R. 2 W.,

Sec. 23, lot 1.

This parcel contains 21.82 acres.

T. 1 S., R. 1 W.,

Three parcels within sec. 18, more particularly described as:

Tract XVIII, Parcel A

Commencing at the North one-quarter (N¼) corner of Section 18, monumented with a BLM brass cap;

Thence S. 00°11′11″ E. along the east boundary of Tract 1 of the Fairbanks International Airport a distance of 121.78 feet, more or less, to the True Point of Beginning;

Thence N. 71°04′49″ E. along a southerly right of way boundary line of Old Airport Road a distance of 275.21 feet, more or less, to a point;

Thence N. 89°54′00″ E. a distance of 37.84 feet, more or less, to a point on the westerly right of way boundary line of Tract VI, Fairbanks International Airport;

Thence along said boundary S. 18°56′00″ E. a distance of 326.83 feet, more or less, to a point;

Thence continuing along said boundary S. 39°19′00″ W. a distance of 634.34 feet, more or less, to a point on the east boundary of Tract 1 of said Airport;

Thence N. 00°11′11″ W. along the east boundary of said Tract 1 a distance of 710.62 feet, more or less, to a point on the southeasterly right of way boundary for Old Airport Road and the True Point of Beginning.

This parcel contains approximately 4.506 acres.

Tract XVIII, Parcel B

Commencing at the North one-quarter (N¼) corner of said Section 18, monumented with a BLM brass cap;

Thence S. 00°11′11″ E. along the east boundary of Tract 1 of the Fairbanks International Airport a distance of 989.59 feet, more or less, to the True Point of Beginning;

Thence N. 39°19′00″ E. along the southern right of way boundary of Tract VI, Fairbanks International Airport right of way line a distance of 75.16 feet, more or less, to the southwesterly right of way line of the South Fairbanks Expressway, Project No. F-035-6(12);

Thence along said right of way boundary along a 00°26′44″ curve to the right through a central angle of 02°03′30″ with a radius of 11,559.16 feet, an arc distance of 415.23 feet, to a point of tangent;

Thence continuing along said right of way line S. 32°51′38″ E. a distance of 1294.20 feet, more or less, to a point;

Thence along said right of way line S. 27°39′58″ E. a distance of 356.33 feet, more or less, to a point on the north boundary for Tract XVI, Fairbanks International Airport;

Thence S. 89°54′00″ W. along the northerly boundary of said Tract XVI a distance of 1653.52 feet, more or less, to the True Point of Beginning.

This parcel contains approximately 23.047 acres.

Tract XVIII, Parcel C

Commencing at the North one-quarter (N¼) corner of Section 18, monumented with a BLM brass cap;

Thence S. 00°11′11″ E. along the east boundary line of Tract 1 and Tract XVII, Parcel A, and the west boundary of Tract XVI of the Fairbanks International Airport a distance of 3963.11 feet, more or less, to a point common to the southwest corner of Tract XVI, the most southerly corner of Tract XVII, Parcel A, and the most westerly corner of Tract XVII, Parcel B of said Airport;

Thence N. 89°55′11″ E. along the south boundary of said Tract XVI common to the north boundary of Tract XVII, Parcel B and a portion of Tract VII, a distance of 1320.66 feet, more or less, to the southeast corner of said Tract XVI being common to the southwest corner of Tract XV (University Avenue) of said Airport and the True Point of Beginning;

Thence N. 00°11′13″ W. along a portion of the east boundary line of said Tract XVI a distance of 910.00 feet, more or less, to a point on the westerly right of way boundary of the South Fairbanks Expressway Project No. F-035-6(12).

Thence S. 27°37′50″ E. along said westerly right of way line a distance of 287.00 feet, more or less, to a point;

Thence continue S. 20°19′55″ E. along said westerly right of way line a distance of 460.98 feet, more or less, to a point;

Thence S. 28°18′50″ W. along said westerly right of way line a distance of 106.13 feet, more or less, to a point on the northwesterly right of way boundary of Tract XV (University Avenue) of said Airport;

Thence S. 61°35′17″ W. along the northwesterly boundary of Tract XV a distance of 273.00 feet, more or less, to the southeast corner of Tract XVI, and the True Point of Beginning.

This parcel contains approximately 3.417 acres.

The areas described aggregate approximately 72.79 acres.

2. The lands have been conveyed out of Federal ownership to the State of Alaska pursuant to the Airport and Airway Improvement Act of 1982. This action is for record clearing purposes only.

Dated: January 29, 2002.
J. Steven Griles,
Deputy Secretary.

[FR Doc. 02-3194 Filed 2-8-02; 8:45 am]

BILLING CODE 4310-JA-P